DEPARTMENT OF DEFENSE

Office of the Secretary

[Transmittal No. 15-71]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 15-71 with attached Policy Justification and Sensitivity of Technology.

Dated: December 17, 2015.
Aaron Siegel,
Alternate OSD Federal Register Liaison Officer, Department of Defense.

BILLING CODE 5001-06-P

BILLING CODE 5001-06-C

Transmittal No. 15-71

Notice of Proposed Issuance of Letter of Offer Pursuant to Section 36(b)(l) of the Arms Export Control Act, as amended

(i) Prospective Purchaser: Kingdom of Morocco

(ii) Total Estimated Value:

Major Defense Equipment * | $ 96.0 million
Other | $ 61.0 million
Total | $157.0 million

(iii) Description and Quantity or Quantities of Articles or Services under Consideration for Purchase:

Major Defense Equipment (MDE):

Six hundred (600) TOW 2A, Radio Frequency (RF) Missiles (BGM-71E-4B-RF)

Seven (7) TOW 2A, Radio Frequency (RF) Missile (BGM-71E-4B-RF) Fly-to-Buy Lot Acceptance Missiles

Three hundred (300) M220A2 TOW Launchers

Also included with this request are Missile Support Equipment; Government-Furnished Equipment; Technical Manuals/Publications; Spare Parts; Tool and Test Equipment; Training; U.S. Government Technical Support/Logistical Support; Contractor Technical Support; and other associated equipment and services.

(iv) Military Department: U.S. Army (MO-B-USZ)

(v) Prior Related Cases, if any: None

(vi) Sales Commission, Fee, etc., Paid, Offered, or Ag reed to be Paid: None

(vii) Sensitivity of Technology Contained in the Defense Article or Defense Services Proposed to be Sold: See Attached Annex

(viii) Date Report Delivered to Congress: 17 NOV 2015

* As defined in Section 47(6) of the Arms Export Control Act

POLICY JUSTIFICATION

Morocco—Radio Frequency (RF) TOW 2A, Radio Frequency (FR) Missile (BGM-71-4B-RF), M220A2 TOW Launchers, Support and Training

The Kingdom of Morocco has requested a possible sale of:

Major Defense Equipment (MDE):

Six hundred (600) TOW 2A, Radio Frequency (RF) Missiles (BGM-71E-4B-RF)

Seven (7) TOW 2A, Radio Frequency (RF) Missile (BGM-71E-4B-RF) Fly-to-Buy Lot Acceptance Missiles

Three hundred (300) M220A2 TOW Launchers

Also included with this request are Missile Support Equipment; Government-Furnished Equipment; Technical Manuals/Publications; Spare Parts; Tool and Test Equipment; Training; U.S. Government Technical Support/Logistical Support; Contractor Technical Support; and other associated equipment and services. The estimated value of MDE is $96 million. The total estimated value is $157 million.

This proposed sale will contribute to the foreign policy and national security of the United States by helping to improve the security of a major Non-NATO ally that continues to be an important force for the political stability and economic progress in North Africa.

The proposed sale of the TOW 2A Missiles, M220A2 Launchers and technical support will advance Morocco's efforts to modernize its ground defense capability.

The proposed sale of this equipment and support will not alter the basic military balance in the region.

The principal contractor involved in this program is Raytheon Missile Systems, Tucson, Arizona. There are no known offset agreements proposed in connection with this potential sale.

Implementation of this proposed sale will require the U.S. Government or contractor representatives to travel to Morocco for multiple periods for equipment deprocessing/fielding, system checkout and new equipment training. There will be no more than six contractor personnel in Morocco at any one time and all efforts will take less than 14 weeks in total.

There will be no adverse impact on U.S. defense readiness as a result of this proposed sale.

Transmittal No. 15-71

Notice of Proposed Issuance of Letter of Offer Pursuant to Section 36(b)(1) of the Arms Export Control Act, as amended

Annex

Item No. vii

(vii) Sensitivity of Technology:

1. The Radio Frequency (RF) TOW 2A Missile (BGM-71E-4B-RF) is a direct attack missile designed to defeat armored vehicles, reinforced urban structures, field fortifications and other such targets. TOW missiles are fired from a variety of TOW launchers in the U.S. Army, USMC, and FMS customer forces. The TOW 2A RF missile can be launched from the same launcher platforms as the existing wire-guided TOW 2A missile without modification to the launcher. The TOW 2A missile (both wire & RF) contains two tracker beacons (xenon and thermal) for the launcher to track and guide the missile in flight. Guidance commands from the launcher are provided to the missile by a RF link contained within the missile case. The hardware, software, and technical publications provided with the sale thereof are unclassified. However, the system itself contains sensitive technology that instructs the system on how to operate in the presence of countermeasures.

2. If a technology advanced adversary were to obtain knowledge of the specific hardware and software elements, the information could be used to develop countermeasures that might reduce weapon system effectiveness or be used in the development of a system with similar or advanced capabilities.

[FR Doc. 2015-32077 Filed 12-21-15; 8:45 am]

BILLING CODE 5001-06-P